INTERNATIONAL TRADE COMMISSION

Agency Information Collection Activities: Proposed Collection; Comment Request: Generic Survey Clearance for Import Injury Investigations

AGENCY: U.S. International Trade Commission.

ACTION: Notice of proposed collection; comment request.

SUMMARY: The proposed information collection is a 3-year extension, pursuant to the Paperwork Reduction Act of 1995 (Pub. L. 104-13) (the “Act”), of the current generic survey clearance previously approved by the Office of Management and Budget (“OMB”). The clearance is used by the U.S. International Trade Commission (“Commission”) to issue information collections (specifically, producer, importer, purchaser, and foreign producer questionnaires and certain institution notices) for a series of import injury investigations that are required by the Tariff Act of 1930 and the Trade Act of 1974. The current generic survey clearance is assigned OMB control No. 3117-0016; it will expire on June 30, 2008. Comments concerning the proposed information collections are requested in accordance with section 3506(c)(2)(A) of the Act; such comments are described in greater detail in the section of this notice entitled supplementary information.

DATES: Written comments should be received not later than 60 days after publication of this notice on the Federal Register to be assured of consideration.

ADDRESSES: Signed comments should be submitted to Marilyn Abbott, Secretary, U.S. International Trade Commission, 500 E Street, SW., Washington, DC 20436.

FOR FURTHER INFORMATION CONTACT: Copies of the proposed information collections may be obtained from: Debra Baker, Office of Investigations, U.S. International Trade Commission (telephone No. 202-205-3180; e-mail address: Debra.Baker@usitc.gov). Hearing-impaired persons can obtain information on this matter by contacting the Commission's TDD terminal on 202-205-1810. Persons with mobility impairments who will need special assistance in gaining access to the Commission should contact the Office of the Secretary at 202-205-2000. General information concerning the Commission may also be obtained by accessing its Internet server (http://www.usitc.gov).

SUPPLEMENTARY INFORMATION:

Request for Comments

Comments are solicited as to (1) whether the proposed information collection is necessary for the proper performance of the functions of the agency, including whether the information will have practical utility; (2) the accuracy of the agency's estimate of the burden of the proposed information collection, including the validity of the methodology and assumptions used; (3) the quality, utility, and clarity of the information to be collected; and (4) minimization of the burden of the proposed information collection on those who are to respond (including through the use of appropriate automated, electronic, mechanical, or other technological forms of information technology, e.g., permitting electronic submission of responses).

Summary of the Proposed Information Collections

(1) Need for the Proposed Information Collections

The information requested in questionnaires and five-year sunset review institution notices issued under the generic survey clearance is utilized by the Commission in the following statutory investigations: Antidumping duty, countervailing duty, escape clause, North American Free Trade Agreement (NAFTA) safeguard, market disruption, and interference-with-programs of the U.S. Department of Agriculture (USDA). The Commission's generic survey clearance to issue questionnaires will not apply to repetitive questionnaires such as those issued on a quarterly or annual basis or to other investigations and research studies conducted under section 332 of the Trade Act of 1974.

The information provided by firms in response to the questionnaires provides the basis for the Commission's determinations in the above-cited statutory investigations. The submitted data are consolidated by Commission staff and provided to the Commission in the form of a staff report. In addition, in the majority of its investigations, the Commission releases completed questionnaires returned by industry participants to representatives of parties to its investigations under the terms of an administrative protective order, the terms of which safeguard the confidentiality of any business proprietary or business confidential information. Representatives of interested parties also receive a confidential version of the staff report under the administrative protective order. Subsequent party submissions to the Commission during the investigative process are based, in large part, upon their review of the information collected.

Included in the proposed generic clearance are the institution notices for the five-year sunset reviews of antidumping and countervailing duty orders and suspended investigations. Responses to the institution notices will be evaluated by the Commission and form much of the record for its determinations to conduct either expedited or full five-year sunset reviews of existing antidumping and countervailing duty orders.

(2) Information Collection Plan

Questionnaires for specific investigations are sent to all identified domestic producers manufacturing the product(s) in question. Importer and purchaser questionnaires are also sent to all substantial importers/purchasers of the product(s). Finally, all foreign manufacturers of the product(s) in question that are represented by counsel are sent questionnaires, and, in addition, the Commission attempts to contact any other foreign manufacturers, especially if they export the product(s) in question to the United States. Firms receiving questionnaires include businesses, farms, and/or other for-profit institutions; responses are mandatory.

The institution notices for the five-year sunset reviews are published in the Federal Register and solicit comment from interested parties (i.e., U.S. producers within the industry in question as well as labor unions or representative groups of workers, U.S. importers and foreign exporters, and involved foreign country governments).

(3) Description of the Information To Be Collected

Although the content of each questionnaire will differ based on the needs of a particular investigation, questionnaires are based on long-established, generic formats. Producer questionnaires generally consist of the following four parts: (part I) General questions relating to the organization and activities of the firm; (part II) data on capacity, production, inventories, employment, and the quantity and value of the firm's shipments and purchases from various sources; (part III) financial data, including income-and-loss data on the product in question, data on asset valuation, research and development expenses, and capital expenditures; and (part IV) pricing and market factors. (Questionnaires may, on occasion, also contain part V, an abbreviated version of the above-listed parts, used for gathering data on additional product categories.)

Importer questionnaires generally consist of three parts: (part I) General questions relating to the organization and activities of the firm; (part II) data on the firm's imports and the shipment and inventories of its imports; and (part III) pricing and market factors similar to that requested in the producer questionnaire.

Purchaser questionnaires generally consist of five parts: (part I) General questions relating to the organization and activities of the firm; (part II) data concerning the purchases of the product by the firm; (part III) market characteristics and purchasing practices; (part IV) comparisons between imported and U.S.-produced product; and (part V) actual purchase prices for specific types of domestic and subject imported products and the names of the firm's vendors.

Foreign producer questionnaires generally consist of (part I) general questions relating to the organization and activities of the firm; (part II) data concerning the firm's manufacturing operations; and may include (part III) market factors.

The notices of institution for the five-year sunset reviews include 11 specific requests for information that firms are to provide if their response is to be considered by the Commission.

(4) Estimated Burden of the Proposed Information Collection

The Commission estimates that information collections issued under the requested generic clearance will impose an average annual burden of 183,000 burden hours on 4,900 respondents (i.e., recipients that provide a response to the Commission's questionnaires or the notices of institution of five-year sunset reviews). Table 1 lists the projected annual burden for each type of information collection for the July 2008-June 2011 period.

Table 1.—Projected Average Annual Burden Data, by Type of Information Collection, July 2008-June 2011
Item | Producer questionnaires ¹ | Importer questionnaires ² | Purchaser questionnaires ³ | Foreign producer questionnaires ⁴ | Institution notices for 5-year reviews ⁵ | Total
| Estimated average burden hours imposed annually for July 2008-June 2011
Number of respondents | 1,021 | 1,469 | 1,140 | 1,180 | 86 | 4,896
Frequency of response | 1 | 1 | 1 | 1 | 1 | 1
Total annual responses | 1,021 | 1,469 | 1,140 | 1,180 | 86 | 4,896
Hours per response | 49.2 | 42.5 | 24.5 | 34.5 | 14.8 | 37.3
Total hours | 50,233 | 62,432 | 27,930 | 40,710 | 1,273 | 182,578
¹ Producer questionnaires.—Estimates based upon the following variables: number of respondents (anticipated caseload (×) number of producer respondents per case) and hours per response (responding firm burden (+) outside review burden (+) third-party disclosure burden). See definitions below. Responding firm burden accounts for 91 percent of the total producer questionnaire burden, outside review burden accounts for 6 percent of the total burden, and third-party disclosure burden accounts for the remaining 3 percent. (The averages per questionnaire of the outside review and third-party disclosure burdens are not listed here since they are incurred only for the questionnaires of parties; such averages for all questionnaires are not meaningful.)
² Importer questionnaires.—Estimates based upon the following variables: number of respondents (anticipated caseload (×) number of importer respondents per case) and hours per response (responding firm burden (+) outside review burden (+) third-party disclosure burden). See definitions below. Responding firm burden accounts for 98 percent of the total importer questionnaire burden, outside review burden and third-party disclosure burden each account for about 1 percent of the total burden. (The averages per questionnaire of the outside review and third-party disclosure burdens are not listed here since they are incurred only for the questionnaires of parties; such averages for all questionnaires are not meaningful.)
³ Purchaser questionnaires.—Estimates based upon the following variables: number of respondents (anticipated caseload (×) number of purchaser respondents per case) and hours per response (responding firm burden). See definitions below. Purchasers are not interested parties to investigations by statute and typically do not engage outside counsel. Therefore, there is minimal outside review burden nor third-party disclosure burden for purchasers.
⁴ Foreign producer questionnaires.—Estimates based upon the following variables: number of respondents (anticipated caseload (×) number of foreign producer respondents per case) and hours per response (responding firm burden (+) outside review burden (+) third-party disclosure burden). See definitions below. Responding firm burden accounts for 62 percent of the total foreign producer questionnaire burden, outside review burden accounts for another 20 percent, and third-party disclosure burden accounts for 18 percent of the total burden.
⁵ Institution notices for 5-year sunset reviews.—Estimates based upon the following variables: anticipated five-year review caseload, number of respondents to each notice, and responding firm burden.
Note.—Above estimates include questionnaires for specific investigations where the mailing list consists of fewer than 10 firms. In such instances the majority or all firms within the industry under investigation may be said to receive questionnaires.
Anticipated caseload.—Derived from current Commission budget estimates.
Number of respondents per case.—Defined as the number of firms which return completed questionnaires to the Commission. Current estimates of “number of respondents per case” for the questionnaires were derived from the number of respondents to Commission questionnaires issued under the generic clearances previously provided to the Commission.
Responding firm burden.—Defined as the time required by the firm which received the questionnaire to review instructions, search data sources, and complete and review its response. Commission questionnaires do not impose the burden of developing, acquiring, installing and utilizing technology and systems, nor require adjusting existing methodology or training personnel. Current estimates of “responding firm burden” for the questionnaires were derived from the actual burden reported by firms that responded to Commission questionnaires issued under the generic clearances previously provided to the Commission.
Outside review burden.—Time devoted by outside legal and financial advisors to reviewing questionnaires completed by the responding firms who are their clients prior to submitting them to the Commission.
Third-party disclosure burden.—Time required for outside legal advisors to serve their clients' questionnaires on other parties to the investigation or review under an administrative protective order.

(5) Minimization of Burden

The Commission periodically reviews its investigative processes, including data collection, to reduce the information burden. Questionnaires clearly state that estimates are acceptable for certain items. They are designed in part with check-in type formats to simplify the response. The reporting burden for smaller firms is reduced in that the sections of the questionnaire that are applicable to their operations are typically more limited. Requests by parties to expand the data collection or add items to the questionnaire for specific investigations may not be accepted if the Commission believes such requests will increase the response burden while not substantially adding to the investigative record.

The Commission's collection of data through its questionnaires does not currently involve the interactive use of automated, electronic, mechanical, or other technological collection techniques or other forms of information technology. At this time, completed questionnaires are usually returned to the Commission in paper form, although there are several options available for filing electronically. Further, the information provided in response to its notices of institution for the five-year sunset reviews is typically submitted in document form directly to the Office of the Secretary although it may be submitted to the Commission's Electronic Data Information System (EDIS) and Electronic Docket.

Issued: November 30, 2007.
By order of the Commission.
Marilyn R. Abbott,
Secretary to the Commission.

[FR Doc. E7-23598 Filed 12-5-07; 8:45 am]

BILLING CODE 7020-02-P